DEPARTMENT OF THE INTERIOR

Fish and Wildlife Service

Receipt of Application of Endangered Species Recovery Permits

AGENCY: Fish and Wildlife Service, Interior.

ACTION: Notice of availability.

SUMMARY: We announce our receipt of an application to conduct certain activities pertaining to enhancement of survival of endangered species.

DATES: Written comments on this request for a permit must be received December 22, 2003.

ADDRESSES: Written data or comments should be submitted to the Assistant Regional Director-Ecological Services, U.S. Fish and Wildlife Service, PO Box 25486, Denver Federal Center, Denver, Colorado 80225-0486; telephone 303-236-7400; facsimile 303-236-0027.

FOR FURTHER INFORMATION CONTACT: Documents and other information submitted with this application are available for review, subject to the requirements of the Privacy Act and Freedom of Information Act, by any party who submits a written request for a copy of such documents within 20 days of the date of publication of this notice to the address above; telephone 303-236-7400.

SUPPLEMENTARY INFORMATION: The following applicant has requested issuance of an enhancement of survival permit to conduct certain activities with endangered species pursuant to section 10(a)(1)(A) of the Endangered Species Act of 1973, as amended (16 U.S.C. 1531 et seq.).

Applicant: Jeff Hagener, Montana Department of Fish, Wildlife and Parks, Helena, Montana, TE-077698.

The applicant requests a permit for the future take of Westslope cutthroat trout (Oncorhynchus clarki lewsi) in conjunction with recovery in Montana. The permit application includes a proposed Candidate Conservation Agreement with Assurances, in which the applicant voluntarily implements conservation activities to benefit the Westslope cutthroat trout. Candidate Conservation Agreements with Assurances encourage implementation of conservation efforts and reduce threats to species that are proposed for listing under the Endangered Species Act.

Dated: October 21, 2003.
Ralph O. Morgenweck,
Regional Director, Denver, Colorado.

[FR Doc. 03-28973 Filed 11-19-03; 8:45 am]

BILLING CODE 4310-55-P